DEPARTMENT OF LABOR

Employment and Training Administration

[TA-W-58,644; TA-W-58,644A]

Corinthian, Inc.; Sewing Department; Corinth, MS and Boonesville, MS; Amended Certification Regarding Eligibility To Apply for Worker Adjustment Assistance and Alternative Trade Adjustment Assistance

In accordance with Section 223 of the Trade Act of 1974 (19 U.S.C. 2273), and Section 246 of the Trade Act of 1974 (26 U.S.C. 2813), as amended, the Department of Labor issued a Certification Regarding Eligibility to Apply for Worker Adjustment Assistance and Alternative Trade Adjustment Assistance on February 3, 2006, applicable to workers of Corinthian, Inc., Sewing Department, Corinth, Mississippi. The notice was published in the Federal Register on February 22, 2006 (71 FR 9160).

At the request of a company official, the Department reviewed the certification for workers of the subject firm. Workers at the Corinth, Mississippi facility and Boonesville, Mississippi facility of the subject firm sew upholstery for furniture.

Information provided by the company shows that workers are sent back and forth between the Corinth, Mississippi facility and the Boonesville, Mississippi facility; therefore, workers are not separately identifiable by product line or by location. Worker separations have occurred at the Corinth, Mississippi and Boonesville, Mississippi facilities of the Sewing Department, Corinthian, Inc.

Accordingly, the Department is amending the certification to cover workers of the Boonesville, Mississippi location of the Sewing Department, Corinthian, Inc.

The intent of the Department's certification is to include all workers of Corinthian, Inc. Sewing Department who were adversely affected by increased company imports.

The amended notice applicable to TA-W-58,644 is hereby issued as follows:

All workers of Corinthian, Inc., Sewing Department, Corinth, Mississippi (TA-W-58,644) and Corinthian, Inc., Sewing Department, Boonesville, Mississippi (TA-W-58,644A), who became totally or partially separated from employment on or after January 12, 2005, through February 3, 2008, are eligible to apply for adjustment assistance under Section 223 of the Trade Act of 1974 are also eligible to apply for alternative trade adjustment assistance under Section 246 of the Trade Act of 1974.

Signed at Washington, DC this 5th day of May 2006.
Richard Church,
Certifying Officer, Division of Trade Adjustment Assistance.

[FR Doc. E6-7512 Filed 5-16-06; 8:45 am]

BILLING CODE 4510-30-P